DEPARTMENT OF DEFENSE

Department of the Army

[Docket ID: USA-2013-0036]

Submission for OMB Review; Comment Request

ACTION: Notice.

SUMMARY: The Department of Defense has submitted to OMB for clearance, the following proposal for collection of information under the provisions of the Paperwork Reduction Act (44 U.S.C. Chapter 35).

DATES: Consideration will be given to all comments received by February 26, 2014.

FOR FURTHER INFORMATION CONTACT: Fred Licari, 571-372-0493.

SUPPLEMENTARY INFORMATION: Title, Associated Form and OMB Number: Customer Service Survey—Regulatory Program, U.S. Army Corps of Engineers; ENG Form 5065; OMB Control Number 0710-0012.

Type of Request: Revision.

Number of Respondents: 2,000.

Responses per Respondent: 1.

Annual Responses: 2,000.

Average Burden per Response: 15 minutes.

Annual Burden Hours: 500.

Needs and Uses: The Corps conducts surveys of customers served by our district offices, currently a total of 38 offices. Only voluntary opinions will be solicited and no information requested on the survey instrument will be mandatory. The survey form will be provided to the applicants when they receive a regulatory product, primarily a permit decision or wetland determination. The information collected will be used to assess whether Regulatory business practices or policies warrant revision to better serve the public. Without this survey the Corps would have to rely on less structured, informal methods of obtaining public input.

Affected Public: Individuals or households; business or other for-profit; not-for-profit institutions; farms; or other agencies who receive permits or jurisdictional determinations for the Corps of Engineers Regulatory program.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: January 22, 2014.
Aaron Siegel,
Alternate OSD Federal Register Liaison Officer, Department of Defense.

[FR Doc. 2014-01450 Filed 1-27-14; 8:45 am]

BILLING CODE 5001-06-P